DEPARTMENT OF STATE

[Public Notice No. 3544]

Proposed Protocol on Rail Equipment to the Draft Convention Sponsored by UNIDROIT on International Mobile Equipment Finance; Meeting Notice

ACTION: International rail finance—the International Finance Study Group of the State Department's Advisory Committee on Private International Law will meet to review a proposed protocol on rail equipment to the draft UNIDROIT convention on equipment finance, and its effect on cross-border financing and trade involving the railway industry. The meeting will be held in Washington, D.C. on Friday, March 2, 2001.

AGENDA: The meeting will cover developments relating to cross-border financing of rail equipment; the purpose of the proposed UNIDROIT Convention on international interests in mobile equipment; recent revisions to the proposed rail equipment protocol to that convention; and positions that may be adopted for the forthcoming UNIDROIT meeting on the rail protocol in March 2001.

Issues relevant to various organizations will be considered, including international transportation policies of DOT, the Surface Transportation Board (STB), and the Association of American Railroads (AAR).

Comments will be requested on draft provisions of the proposed Railway rolling stock protocol, including the intersection with revisions to Uniform Commercial Code Art.9 in the United States, relevant provisions of Title 49 of the U.S. Code, commercial finance laws of Canada, Mexico and other countries, and related international projects on secured financing, including work underway at UNCITRAL (the United Nations Commission on International Trade Law) on receivables financing and the OAS (Organization of American States) on a model Inter-American national law on secured financing.

Background: The United States is a member state of UNIDROIT, headquartered in Rome, Italy, which seeks to unify private law, often in the economic and commercial law area. The U.S. has been an active participant in negotiations on a multilateral convention (UNIDROIT Convention) to provide for enforceability of international secured finance interests in mobile equipment, together with a protocol on aircraft finance, with provisions for rail equipment and space and satellite equipment to be subsequently considered. The basic convention and aircraft protocol are expected to be finalized in 2001.

A Rail Working Group (RWG) authorized by UNIDROIT has undertaken work on the current draft protocol on provisions specific to rail equipment financing, which will be considered at an international meeting in March 2001 sponsored by UNIDROIT and the Intergovernmental Organization for International Carriage by Rail (OTIF).

The proposed Convention and rail equipment protocol is intended to benefit rail industry exports and increase the capacity of many countries to finance such equipment through private sector capital markets. Key features of the draft Convention as it would be amended by the rail protocol are expected to include: rules on secured financing priorities recognized by the convention; assignments; recognition of existing regional rail registries and possible cross-links between them, and provision for new registry systems or for states to utilize existing systems in other countries for implementation of the convention. Certain key provisions are likely to be optional, such as enhanced and expedited remedies upon default and treatment of insolvency rights.

Attendance: The meeting will be held on Friday, March 2, 2001, from 10:00 a.m. to 4:00 p.m. at the Association of American Railroads (AAR), 50 “F” Street, NW, Washington, D.C. 20001, in the 4th floor conference center. The meeting is open to the public, up to the capacity of the meeting room and subject to rulings of the chair. Persons wishing to attend should contact Peter Bloch, Department of Transportation, Office of General Counsel, (202) 366-9183, fax 366-9188, or Louis P. Warchot at AAR at 202-639-2500, fax 639-2868, not later than Thursday, March 1, 2001.

Documents: The Preliminary Draft Protocol on railway rolling stock, UNIDROIT Doc.4, Study LXXIIH, December 2000 (also available as OTIF Doc. JGR/2, December 2000) is available prior to the meeting by express mail or fax from the Office of Legal Adviser at the above numbers. The position of the AAR concerning the rail protocol can be obtained from the AAR at the above number. The draft UNIDROIT convention as well as the draft aircraft protocol are available at www.UNIDROIT.org/ “International interests in mobile equipment”.

Harold S. Burman,
Executive Director, Secretary of State's Advisory Committee on Private International Law, United States Department of State.

[FR Doc. 01-4665 Filed 2-23-01; 8:45 am]

BILLING CODE 4710-08-P